ENVIRONMENTAL PROTECTION AGENCY

40 CFR Part 52

[MN-86-2; FRL-7962-6]

Approval and Promulgation of Air Quality Implementation Plans; Minnesota; Revised Format of 40 CFR Part 52 for Materials Being Incorporated by Reference; Correction

AGENCY: Environmental Protection Agency (EPA).

ACTION: Final rule; correcting amendment.

SUMMARY: This document corrects an error in the amendatory instruction in a final rule pertaining to the Revised Format of 40 CFR part 52 for Materials Being Incorporated by Reference for Minnesota.

DATES: This final rule is effective on August 30, 2005.

FOR FURTHER INFORMATION CONTACT: Christos Panos, Environmental Engineer, Criteria Pollutant Section, Air Programs Branch (AR-18J), U.S. Environmental Protection Agency, Region 5, Chicago, Illinois 60604, (312) 353-8328, or by e-mail at panos.christos@epa.gov.

SUPPLEMENTARY INFORMATION: EPA published a document on February 24, 2005 (70 FR 8930) redesignating § 52.1220 as § 52.1222, when § 52.1222 already existed. The intent of the rule was to remove the then existing § 52.1222 titled “EPA-approved Minnesota State regulations” and then redesignate § 52.1220 as § 52.1222. This document corrects the erroneous amendatory language.

Correction

In the final rule published in the Federal Register on February 24, 2005 (70 FR 8930), on page 8932 the amendatory instruction is corrected. Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 8, 2005.
Norman Niedergang,
Acting Regional Administrator, Region 5.

Part 52 of chapter I, title 40, Code of Federal Regulations, is amended as follows:

PART 52—[AMENDED]

1. The authority for citation for part 52 continues to read as follows:

Authority: 42 U.S.C. 7401 et seq.

Subpart Y—Minnesota

§ 52.1222 [Removed]

2. Section 52.1222 titled “EPA-approved Minnesota State regulations” is removed.

§ 52.1220 [Redesignated as § 52.1222]

3. Section 52.1220 is redesignated as § 52.1222 and the section heading and paragraph (a) are revised to read as follows:

§ 52.1222 Original Identification of plan section.

(a) This section identifies the original “Air Implementation Plan for the State of Minnesota” and all revisions submitted by Minnesota that were federally approved prior to December 1, 2004.

* * * * *

[FR Doc. 05-17203 Filed 8-29-05; 8:45 am]

BILLING CODE 6560-50-U